DEPARTMENT OF COMMERCE

Foreign-Trade Zones Board

[B-45-2012]

Foreign-Trade Zone 7—Mayaguez, Puerto Rico, Authorization of Production Activity, Baxter Healthcare of Puerto Rico, (Pharmaceutical and Nutritional Intravenous Bags and Administration Sets); Aibonito and Jayuya, Puerto Rico

The Puerto Rico Industrial Development Company, grantee of FTZ 7, submitted a notification of proposed production activity to the Foreign-Trade Zones (FTZ) Board on behalf of Baxter Healthcare of Puerto Rico, at two sites within FTZ 7, located in Aibonito and Jayuya, Puerto Rico.

The notification was processed in accordance with the regulations of the FTZ Board (15 CFR part 400), including notice in the Federal Register inviting public comment (77 FR 36997, 6/20/2012). The FTZ Board has determined that no further review of the activity is warranted at this time. The production activity described in the notification is authorized, subject to the FTZ Act and the Board's regulations, including Section 400.14.

Dated: October 2, 2012.
Andrew McGilvray,
Executive Secretary.

[FR Doc. 2012-24827 Filed 10-5-12; 8:45 am]

BILLING CODE 3510-DS-P